ENVIRONMENTAL PROTECTION AGENCY

[EPA-HQ-OPP-2005-0265; FRL-9941-37]

Dicloran (DCNA); Notice of Receipt of Request To Voluntarily Amend Registrations To Terminate Certain Uses

AGENCY: Environmental Protection Agency (EPA).

ACTION: Notice.

SUMMARY: In accordance with the Federal Insecticide, Fungicide, and Rodenticide Act (FIFRA), EPA is issuing a notice of receipt of a request by Gowan Company to voluntarily amend their dicloran (DCNA) product registrations to terminate certain uses. The request would delete DCNA use in or on apricots, chrysanthemums, conifers, gladiolus, grapes, greenhouse cucumbers, greenhouse lettuce, greenhouse rhubarb, greenhouse tomato, nectarines, peaches, plums/prunes, roses, and sweet cherries. The request would not terminate the last DCNA product registered for use in the United States. EPA intends to grant this request at the close of the comment period for this announcement unless the Agency receives substantive comments within the comment period that would merit its further review of the request, or unless the registrant withdraws its request. If this request is granted, any sale, distribution, or use of products listed in this notice will be permitted after the uses have been deleted only if such sale, distribution, or use is consistent with the terms as described in the final order.

DATES: Comments must be received on or before September 12, 2016.

ADDRESSES: Submit your comments, identified by docket identification (ID) number EPA-HQ-OPP-2005-0265, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: James Parker, Pesticide Re-Evaluation Division (7508P), Office of Pesticide Programs, Environmental Protection Agency, 1200 Pennsylvania Ave. NW., Washington, DC 20460-0001; telephone number: (703) 306-0469; email address: parker.james@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background on the Receipt of Requests To Amend Registrations To Delete Uses

This notice announces receipt by EPA of a request from Gowan Company to delete certain uses of DCNA product registrations. DCNA is a pre- and post-harvest fungicide used on various agricultural commodities and ornamentals. In a letter dated October 16, 2014, Gowan Company requested EPA to delete certain uses of pesticide product registrations identified in Table 1 of Unit III. Specifically, in order to alleviate several data requirements identified in the DCNA reregistration data call-in (DCI), Gowan Company submitted a letter requesting to voluntarily cancel DCNA use in or on: Apricots, chrysanthemums, conifers, gladiolus, grapes, greenhouse cucumbers, greenhouse lettuce, greenhouse rhubarb, greenhouse tomato, nectarines, peaches, plums/prunes, roses, and sweet cherries. This action will not terminate the last pesticide products registered in the United States for DCNA.

III. What action is the Agency taking?

This notice announces receipt by EPA of a request from Gowan Company to delete certain uses of DCNA product registrations. The affected products and the registrants making the requests are identified in Tables 1 and 2 of this unit.

Unless a request is withdrawn by the registrant or if the Agency determines that there are substantive comments that warrant further review of this request, EPA intends to issue an order canceling and/or amending the affected registrations at the conclusion of the 180-day comment period.

Table 1—Dicloran (DCNA) Product Registrations With Pending Requests for Cancellation
Registration No. | Product name | Company
10163-189 | Botran 75-W Fungicide | Gowan Company.
10163-195 | Botran Technical | Gowan Company.
10163-226 | Botran 5F Fungicide | Gowan Company.

Table 2 of this unit includes the name and address of record for the registrant of the products listed in Table 1 of this unit, in sequence by EPA company number. This number corresponds to the first part of the EPA registration numbers of the products listed in Table 1 of this unit.

Table 2—Registrants Requesting Voluntary Amendments
EPA Company No. | Company name and address
10163 | Gowan Company, P.O. Box 5569, Yuma, Arizona 85366-5569.

IV. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The DCNA registrant has not requested that EPA waive the 180-day comment period. Accordingly, EPA will provide a 180-day comment period on the proposed request.

V. Procedures for Withdrawal of Requests

Registrants who choose to withdraw a request for use deletion should submit the withdrawal in writing to the person listed under FOR FURTHER INFORMATION CONTACT. If the products have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the request for amendment to delete uses is granted, the Agency intends to publish the cancellation order in the Federal Register.

In any order issued in response to this request for an amendment to delete uses EPA proposes to include the following provisions for the treatment of any existing stocks of the products listed in Table 1 of Unit III.

Effective on the date of publication of the cancellation order, the registrant may not sell, distribute or use existing stocks of products whose labels include deleted uses. Persons other than the registrant may sell, distribute, or use existing stocks of products whose labels include the deleted uses until supplies are exhausted, provided that such sale, distribution, or use is consistent with the terms of the previously approved labeling on, or that accompanied, the deleted uses.

Authority: 7 U.S.C. 136 et seq.

Dated: March 8, 2016.
Yu-Ting Guilaran,
Director, Pesticide Re-Evaluation Division, Office of Pesticide Programs.

[FR Doc. 2016-05960 Filed 3-15-16; 8:45 am]

BILLING CODE 6560-50-P